DEPARTMENT OF DEFENSE

Office of the Secretary

TRICARE Formerly Known as the Civilian Health and Medical Program of the Uniformed Services (CHAMPUS); Fiscal Year 2006 Mental Health Rate Updates

Correction

In notice document 05-23766 beginning on page 72994 in the issue of Thursday, December 8, 2005, make the following correction:

On page 72995, in the table “Partial Hospitalization Rates for Full-Day and Half-Day Programs FY 2006”, in the third column, in the seventh entry, “211” should read “221”.

[FR Doc. C5-23766 Filed 12-19-05; 8:45 am]

BILLING CODE 1505-01-D

DEPARTMENT OF THE INTERIOR

Fish and Wildlife Service

Draft Comprehensive Conservation Plan and Environmental Assessment for Shawangunk Grasslands National Wildlife Refuge

Correction

In notice document 05-23642 beginning on page 72463 in the issue of Monday, December 5, 2005 make the following correction:

On page 72463, in the third column,under the heading ADDRESSES, in the seventh line, “northeastplaning@amp;fws.gov,” should read “northeastplanning@amp;fws.gov.”

[FR Doc. C5-23642 Filed 12-19-05; 8:45 am]

BILLING CODE 1505-01-D